DEPARTMENT OF AGRICULTURE

National Institute of Food and Agriculture

Notice of Stakeholder Listening Session Regarding Administration of the Veterinary Medicine Loan Repayment Program and Veterinary Services Grant Program

AGENCY: National Institute of Food and Agriculture, USDA.

ACTION: Notice of Stakeholder Listening Session.

SUMMARY: USDA National Institute of Food and Agriculture (NIFA) announces its stakeholder listening initiative, “NIFA Listens Regarding Administration of the Veterinary Medicine Loan Repayment Program (VMLRP) and the Veterinary Services Grant Program (VSGP).” The objectives of the programs are to help veterinarians offset educational debt in return for food animal veterinary services, to ensure food animal veterinary services are available in priority shortage situation areas, and to support training of veterinary students, interns, and residents. As part of the stakeholder input process, NIFA is conducting a public meeting to solicit comments regarding the administration of the programs and the processes developed and implemented since the conclusion of the first application and award cycle (September 2010 for the VMLRP and September 2016 for the VSGP). Input collected will be used to evaluate and improve processes for shortage situation nominations, shortage area designations and allocations, full-time equivalent requirements, notice of funding opportunities, application processing, processes for matching shortage areas with applicants, and award requirements.

DATES:

Online Input: Submission of online stakeholder input will be open upon publishing of this Notice through 5 p.m. EST February 7, 2024. To submit online, email vmlrp@usda.gov and include your name, organization, contact information, and your input in plain text in the body of the email.

Virtual Listening Session: The virtual listening session will be held on January 24, 2024 beginning at 11 a.m. EST and is scheduled to end no later than 3 p.m. EST. The session will include a presentation of the goals and background information of the Veterinary Medicine Loan Repayment Program (VMLRP) and Veterinary Services Grant Program (VSGP), followed by comments from stakeholders. Each speaker who wishes to comment will virtually raise their hand and be placed into a queue in the order in which their hand was raised. When selected to speak, each speaker will be allowed 10 minutes to provide verbal comments.

If you need a reasonable accommodation to register for or participate in this event, please contact Alan Robinson, Acting Director of Equal Opportunity Staff, at Alan.Robinson@usda.gov, or 202-573-1514 no later than January 10, 2024.

FOR FURTHER INFORMATION CONTACT: Marline Azevedo, VMLRP Program Coordinator, Marline.Azevedo@usda.gov, 816-401-7790.

SUPPLEMENTARY INFORMATION: This listening effort will allow stakeholders to provide feedback on the following questions:

• What is your top priority for the VMLRP and/or VSGP in the next decade?

• What are the greatest challenges that you see facing food animal veterinary practice, with respect to the VMLRP and VSGP, in the coming decade?

• What improvements or enhancements would you make to VMLRP and VSGP?

• What are the most promising opportunities/solutions for food animal veterinary practice, with respect to the VMLRP and VSGP, in the coming decade?

NIFA welcomes stakeholder input from any group or individual interested in food animal veterinary services in the U.S., including but not limited to governmental agencies, academic institutions, State Animal Health Officials, applicants, current or former awardees, current or former food animal veterinary practitioners, producers, and any other interested parties.

NIFA is eager to obtain stakeholder comments on the current challenges and needed breakthroughs as well as the priorities, solutions, and opportunities that will facilitate long-term sustainable services in food animal veterinary medicine.

Implementation Plans: All input will become a part of the official record and available on the NIFA website, https://www.nifa.usda.gov/. Stakeholder input received from the two mechanisms is treated equally. The challenges, needed breakthroughs, and priorities identified by this effort will be evaluated in conjunction with input from NIFA staff. This information will be critical for NIFA's evaluation and improvements of existing VMLRP and VSGP operations.

Done at Washington, DC.
Drenda Williams,
Associate Director for Operations, National Institute of Food and Agriculture, U.S. Department of Agriculture.

[FR Doc. 2023-20463 Filed 9-20-23; 8:45 am]

BILLING CODE 3410-22-P